DEPARTMENT OF COMMERCE

National Oceanic and Atmospheric Administration

[RTID 0648-XE303]

Marine Mammals; File No. 27543

AGENCY: National Marine Fisheries Service (NMFS), National Oceanic and Atmospheric Administration (NOAA), Commerce.

ACTION: Notice; receipt of application.

SUMMARY: Notice is hereby given that Marine Ecology and Telemetry Research, 2468 Camp McKenzie Trl NW, Seabeck WA 98380 (Responsible Party: Greg Schorr), has applied in due form for a permit to conduct research on and import specimens of 47 marine mammal species including the following endangered species and Distinct Population Segments (DPSs): blue whale (Balaenoptera musculus), bowhead whale (Balaena mysticetus), Main Hawaiian Islands Insular DPS of false killer whale (Pseudorca crassidens), fin whale (Balaenoptera physalus), Western DPS of gray whale (Eschrichtius robustus), Western North Pacific DPS and Central America DPS of humpback whale (Megaptera novaeangliae), Southern Resident DPS of killer whale (Orcinus orca), North Pacific right whale (Eubalaena japonica), sei whale (Balaenoptera borealis), and sperm whale (Physeter macrocephalus).

DATES: Written comments must be received on or before October 21, 2024.

ADDRESSES: The application and related documents are available for review by selecting “Records Open for Public Comment” from the “Features” box on the Applications and Permits for Protected Species home page, https://apps.nmfs.noaa.gov, and then selecting File No. 27543 from the list of available applications. These documents are also available upon written request via email to NMFS.Pr1Comments@noaa.gov.

Written comments on this application should be submitted via email to NMFS.Pr1Comments@noaa.gov. Please include File No. 27543 in the subject line of the email comment.

Those individuals requesting a public hearing should submit a written request via email to NMFS.Pr1Comments@noaa.gov. The request should set forth the specific reasons why a hearing on this application would be appropriate.

FOR FURTHER INFORMATION CONTACT: Amy Hapeman or Sara Young, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The applicant proposes to assess the biology and ecology of cetaceans in U.S. and international waters along the U.S. west coast south to the Baja California Peninsula, Hawaii and Alaska. The main research objectives are to investigate cetacean (1) distribution, abundance, stock structure, habitat use and demographics, (2) behavioral ecology, (3) population health and exposure to potential stressors, and (4) behavioral responses to military sound sources. Research would be conducted from vessel and aerial platforms (manned and unmanned aircraft systems), for: counts, sample collection (prey remains, fecal, sloughed skin, skin and blubber biopsy, breath), observations, acoustic recordings, acoustic playbacks, photo-identification, videography, photogrammetry, tagging, and tracking. Researchers may attach up to two tag types (suction-cup, dart/barb, or deep implant) at a time to some animals. Researchers may unintentionally disturb seven pinniped species, including the endangered Western DPS of Steller sea lion (Eumetopias jubatus) and Hawaiian monk seals (Neomonachus schauinslandi), during studies. Biological samples collected in international waters may be imported and re-exported. See the application for take numbers requested. The permit would be valid for 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: September 17, 2024.
Julia M. Harrison,
Chief, Permits and Conservation Division, Office of Protected Resources, National Marine Fisheries Service.

[FR Doc. 2024-21524 Filed 9-19-24; 8:45 am]

BILLING CODE 3510-22-P